DEPARTMENT OF THE INTERIOR

Bureau of Land Management

[LLWY922000-L13200000-EL0000, WYW186226]

Notice of Invitation to Participate; Coal Exploration License Application WYW186226, Wyoming

AGENCY: Bureau of Land Management, Interior.

ACTION: Notice of invitation.

SUMMARY: Pursuant to the Mineral Leasing Act of 1920, as amended by the Federal Coal Leasing Amendments Act of 1976, and the Bureau of Land Management (BLM) regulations, all interested parties are hereby invited to participate with Black Butte Coal Company on a pro rata cost-sharing basis, in its program for the exploration of coal deposits owned by the United States of America in Sweetwater County, Wyoming.

DATES: This notice of invitation will publish in the Rock Springs Rocket-Miner once a week for 2 consecutive weeks beginning the week of March 19, 2018. Any party electing to participate in this exploration program must send written notice to both the BLM and Black Butte Coal Company, as provided in the ADDRESSES section below, no later than August 20, 2018.

ADDRESSES: Copies of the exploration plan are available for review during normal business hours in the following offices (serialized under number WYW186226): BLM, Wyoming State Office, 5353 Yellowstone Road, Cheyenne, Wyoming 82009; and BLM, Rock Springs Field Office, 280 Highway 191 North, Rock Springs, Wyoming 82901. The written notice should be sent to the following addresses: Black Butte Coal Company, c/o Lighthouse Resources Inc., Attn: Mr. Jason Russell, 10980 South Jordan Gateway, Salt Lake City, UT 84095; and the BLM Wyoming State Office, Branch of Solid Minerals, Attn: Branch Chief, Solid Minerals, P.O. Box 1828, Cheyenne, Wyoming 82003.

FOR FURTHER INFORMATION CONTACT: Tim Wilson, Branch Chief, Solid Minerals at 307-775-6179 or tjwilson@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Black Butte Coal Company has applied to the BLM for a 2-year coal exploration license on public land in the Salt Wells area near the existing Black Butte Coal Mine south of Point of Rocks, Wyoming. The purpose of the exploration program is to obtain structural and quality information on the coal. The BLM regulations at 43 CFR 3410.2 require the publication of an invitation for interested parties to participate in the coal exploration in the Federal Register. The Federal coal resources included in the exploration license application are located in the following described lands in Wyoming:

Sixth Principal Meridian, Wyoming

T. 17 N., R. 100 W.,

Secs. 4, 8, 18, and 30.

T. 16 N., R. 101 W.,

Secs. 2, 4, 6, 8, 10, 18, 20, and 30.

T. 17 N., R. 101 W.,

Sec. 2, lots 1 and 2, S½NE¼, SE¼NW¼, and S½;

Sec. 8;

Sec. 10, E½, and S½SW¼;

Secs. 12, 14, 18, 20, 22, 24, 26, 28, 30, 32, and 34.

T. 15 N., R. 102 W.,

Sec. 4.

T. 16 N., R. 102 W.,

Secs. 2, 10, 12, 14, 22, 24, 26, and 28;

Sec. 34, NE¼, N½NW¼, SE¼NW¼, and S½.

T. 17 N., R. 102 W.,

Secs. 24 and 26.

The areas described aggregate 23,232.28 acres.

The proposed exploration program is fully described and will be conducted pursuant to an exploration plan to be approved by the BLM.

Authority: 43 CFR 3410.2-1(c)(1).

Mary Jo Rugwell,
State Director.

[FR Doc. 2018-15444 Filed 7-18-18; 8:45 am]

BILLING CODE 4310-22-P